FEDERAL RETIREMENT THRIFT INVESTMENT BOARD

Sunshine Act Notice

Time and Date: 2:30 p.m. (e.d.t.), June 7, 2004.

Place: 4th Floor Conference Room, 1250 H Street, NW., Washington, DC.

Status: Parts will be open to the public and parts closed to the public.

Matters to be Considered:

Parts Open to the Public

1. Approval of the minutes of the May 17, 2004, Board member meeting.

2. Thrift Savings Plan activity report by the Executive Director.

3. Wilshire 4500 vote.

Parts Closed to the Public

4. Personnel matters.

5. Procurement matters.

6. Litigation.

FOR FURTHER INFORMATION CONTACT: Thomas J. Trabucco, Director, Office of External Affairs, (202) 942-1640.

Dated: May 28, 2004.
Elizabeth S. Woodruff,
Secretary to the Board, Federal Retirement Thrift Investment Board.

[FR Doc. 04-12655 Filed 5-28-04; 4:23 pm]

BILLING CODE 6760-01-P